NUCLEAR REGULATORY COMMISSION

[NRC-2011-0267]

In the Matter of All Operating Reactor Licensees With Mark I and Mark II Containments

AGENCY: Nuclear Regulatory Commission.

ACTION: Director's decision under 10 CFR 2.206; issuance.

SUMMARY: The U.S. Nuclear Regulatory Commission (NRC) has issued a director's decision with regard to a petition dated July 29, 2011, filed by Mr. David Lochbaum, Director for Nuclear Safety Project of Union of Concerned Scientists (the petitioner), requesting that the NRC take action with regard to all operating General Electric (GE) boiling-water reactor (BWR) licensees with Mark I and Mark II primary containment designs (referred hereafter as the licensees).

ADDRESSES: Please refer to Docket ID NRC-2011-0267 when contacting the NRC about the availability of information regarding this document. You may obtain publicly-available information related to this document using any of the following methods:

• Federal Rulemaking Web site: Go to http://www.regulations.gov and search for Docket ID NRC-2011-0267. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: John G. Lamb, Office of Nuclear Reactor Regulation, U.S. Nuclear Regulatory Commission, Washington DC 20555-0001; telephone: 301-415-3100, email: John.Lamb@nrc.gov.

SUPPLEMENTARY INFORMATION: Notice is hereby given that the Director, Office of Nuclear Reactor Regulation, has issued a director's decision (ADAMS Accession No. ML15132A625) on a petition filed by the petitioner on July 29, 2011 (ADAMS Accession No. ML11213A030).

The petitioner requested that the NRC issue a demand for information (DFI) of the operating licenses of all GE BWRs that utilize the Mark I and Mark II primary containment designs.

The NRC sent a copy of the proposed director's decision to the petitioner and the licensees for comment on April 17, 2015 (ADAMS Accession No. ML12215A283). The petitioner and the licensees were asked to provide comments within 30 days on any part of the proposed director's decision that was considered to be erroneous or any issues in the petition that were not addressed. The NRC staff received comments on the proposed director's decision from the petitioner by letter dated May 8, 2015 (ADAMS Accession No. ML15128A388). The NRC staff responses to the comments are attached to the director's decision.

The Director of the Office of Nuclear Reactor Regulation denies the petition because the NRC staff has reasonable assurance that the design and operation of SFP cooling systems for BWRs with Mark I and II containment designs provide adequate assurance of public health and safety and satisfy current regulations. The concern associated with development of harsh environmental conditions following a beyond-design-basis event that induces a sustained loss of spent fuel pool forced cooling was resolved through the issuance of orders and implementing guidance associated with the lesson-learned as a result of the Fukushima Dai-ichi accident. The reasons for this decision are explained in the director's decision (DD-15-11) pursuant to section 2.206 of title 10 of the Code of Federal Regulations (10 CFR), of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Dated at Rockville, Maryland, this 2nd day of November 2015.
For the Nuclear Regulatory Commission
William M. Dean,
Director, Office of Nuclear Reactor Regulation.

[FR Doc. 2015-29537 Filed 11-18-15; 8:45 am]

BILLING CODE 7590-01-P